DEPARTMENT OF TRANSPORTATION

Office of the Secretary

Elizabeth Betsy Pope d/b/a Eastgate Laboratory Testing; Public Interest Exclusion Order

AGENCY: Office of the Secretary, DOT.

ACTION: Notice.

SUMMARY: The Department of Transportation (DOT) issued a decision and order under the Procedures for Transportation Workplace Drug and Alcohol Testing Programs that excludes a service agent, Elizabeth “Betsy” Pope d/b/a Eastgate Laboratory Testing, from providing drug and alcohol testing services in any capacity to any DOT-regulated employer for a period of 5 years. Ms. Pope and her company provided Medical Review Officer services to DOT-regulated trucking companies when Ms. Pope was not qualified to act as a Medical Review Officer. This Federal Register serves as notice to the public that DOT-regulated employers or their service agents must stop using the services of Elizabeth “Betsy” Pope d/b/a Eastgate Laboratory Testing for administering their DOT-regulated drug and/or alcohol testing programs.

DATES: The effective date of the Public Interest Exclusion is August 18, 2015 and it will remain in effect until August 18, 2020.

FOR FURTHER INFORMATION CONTACT: Patrice M. Kelly, Acting Director, U.S. Department of Transportation, Office of Drug and Alcohol Policy and Compliance, 1200 New Jersey Avenue SE., Washington, DC 20590; (202) 366-3784 (voice), (202) 366-3897 (fax), or patrice.kelly@dot.gov.

SUPPLEMENTARY INFORMATION:

Background

In accordance with the provisions of the Department's regulation at 49 CFR part 40 (Part 40), Subpart R, Public Interest Exclusions (PIE), the Federal Motor Carrier Safety Administration (FMCSA) issued a Notice of Proposed Exclusion to Ms. Pope on January 20, 2015. FMCSA recommended the PIE based upon a criminal conviction that resulted from the fraudulent Medical Review Officer (MRO) services Ms. Pope was providing to a DOT-regulated trucking company through her company, Eastgate Laboratory Testing. The grand jury had charged that from approximately January 2006 through approximately March 2012, Ms. Pope provided drug test results without using a qualified MRO, as required by the DOT regulations. Ms. Pope, who was not a licensed physician (a Doctor of Medicine or Osteopathy), and therefore not qualified to act as an MRO, used the signature of an MRO to certify results, while the MRO had not worked for her company since June 2005. Specifically, the NOPE cited a guilty plea that Ms. Pope entered in the United States District Court for the Western District of Pennsylvania and the resulting December 10, 2014 “conviction for mail fraud relating to [Ms. Pope's] forgery of a medical review officer's signature on commercial motor vehicle operator drug tests.”

Public Interest Exclusion Decision and Order

On August 18, 2015, the Department issued a PIE against Elizabeth “Betsy” Pope d/b/a Eastgate Laboratories. This PIE prohibits all DOT-regulated employers and service agents from utilizing Elizabeth “Betsy” Pope d/b/a Eastgate Laboratories for drug and alcohol testing services in any capacity for a period of 5 years. A full copy of the Department's Decision and Order can be found at http://www.dot.gov/odapc.

In accordance with the terms of the Department's Decision and Order and per 49 CFR 40.403(a), Elizabeth “Betsy” Pope d/b/a Eastgate Laboratories is required to directly notify each of the affected DOT-regulated employer clients in writing about the issuance, scope, duration, and effect of the PIE. The Department is notifying employers and the public about this PIE by publishing it in a “List of Excluded Drug and Alcohol Service Agents” on its Web site at http://www.dot.gov/odapc/ and will make the list available upon request. As required by 49 CFR 40.401(d), the Department is publishing this Federal Register notice to inform the public that Elizabeth “Betsy” Pope d/b/a Eastgate Laboratories is subject to a PIE for 5 years. After August 18, 2020, Elizabeth “Betsy” Pope d/b/a Eastgate Laboratories, will be removed from the list and the public will be notified of that removal, also in accordance with 49 CFR 40.401(d).

Any DOT-regulated employer who uses the services of Elizabeth “Betsy” Pope d/b/a Eastgate Laboratories between August 18, 2015 and August 18, 2020 may be subject to a civil penalty for violation of Part 40.

Dated: This 18th Day of August, 2015, at Washington, DC.
Patrice M. Kelly,
Acting Director, Office of Drug and Alcohol Policy Compliance.

[FR Doc. 2015-20842 Filed 8-21-15; 8:45 am]

BILLING CODE 4910-9X-P